DEPARTMENT OF HEALTH AND HUMAN SERVICES

Centers for Disease Control and Prevention

[30Day-25-0743]

Agency Forms Undergoing Paperwork Reduction Act Review

In accordance with the Paperwork Reduction Act of 1995, the Centers for Disease Control and Prevention (CDC) has submitted the information collection request titled “Assessment and Monitoring of Breastfeeding-Related Maternity Care Practices in Intrapartum Care Facilities in the United States and Territories” to the Office of Management and Budget (OMB) for review and approval. CDC previously published a “Proposed Data Collection Submitted for Public Comment and Recommendations” notice on June 16, 2025 to obtain comments from the public and affected agencies. CDC received five comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Assessment and Monitoring of Breastfeeding-Related Maternity Care Practices in Intrapartum Care Facilities in the United States and Territories (OMB Control No. 0920-0743, Exp. 3/31/2025)—Reinstatement—National Center for Chronic Disease Prevention and Health Promotion (NCCDPHP), Centers for Disease Control and Prevention (CDC).

Background and Brief Description

Substantial evidence demonstrates the social, economic, and health benefits of breastfeeding for both the mother and infant, as well as for society in general. Health professionals recommend exclusive breastfeeding for about the first six months and continued breastfeeding for at least 12 months; Healthy People 2030 establishes specific national breastfeeding goals related to breastfeeding exclusivity and duration. In addition to increasing overall rates, a public health priority in the U.S. is to reduce variation in breastfeeding rates across population subgroups. Although CDC surveillance data indicate that breastfeeding initiation rates in the United States are climbing, rates for duration and exclusivity continue to lag, and significant disparities in breastfeeding rates persist.

The health care system is one of the most important and effective settings to improve breastfeeding, and the birth hospital stay has a crucial influence on later breastfeeding outcomes. Every two years between 2007-2015, CDC conducted the national survey of Maternity Practices in Infant Nutrition and Care (mPINC survey) in hospitals and free-standing birth centers to better understand national breastfeeding-supportive maternity practices and changes in these practices over time. Breastfeeding supportive maternity care practices changed rapidly, and in 2018 CDC redesigned the survey items to reflect these practice changes. Every two years between 2018-2024, the revised survey was administered to hospitals that routinely provide maternity care. The survey asks hospital maternity staff to report information about patient education and support for breastfeeding provided to their patients throughout the maternity stay, as well as staff training and maternity care policies.

The 2026 and 2028 mPINC survey will closely match those previously administered. As an ongoing national census of hospitals in the United States and territories that provide maternity care, it does not employ sampling methods. CDC uses the American Hospital Association (AHA) Annual Survey of Hospitals to identify potential participating hospitals. Hospitals invited to participate in the survey include those that participated in previous iterations, those that received an invitation but did not participate in the previous iterations, and those that have become eligible since the most recent mPINC survey. CDC will screen all hospitals with one or more registered maternity beds to assess their eligibility, identify the appropriate point of contact, and obtain contact information for the person identified. The response rates for previous iterations of the mPINC survey range from 70%-83%. CDC will provide direct feedback to participating hospitals in a private, individualized, hospital-specific report of their results. CDC will use information from the mPINC surveys to identify, document, and publicly share aggregated information related to changes in practices and processes over time at the hospital, state, regional, and national levels. Researchers also use the data to better understand relationships between hospital characteristics, maternity-care practices, state level factors, and breastfeeding initiation and continuation rates.

Participation in the survey is voluntary, and participants submit responses through a secure Web-based system. There are no costs to respondents other than their time. CDC requests OMB approval of 777 annual burden hours for three years to conduct the 2026 and 2028 surveys.

Estimated Annualized Burden Hours

Type of respondents | Form name | Number of respondents | Number of responses per respondent | Average burden per response (in hours)
Maternity Hospitals | Screening Part A | 567 | 1 | 3/60
Maternity Hospitals | Screening Part B | 1,771 | 1 | 2/60
Maternity Hospitals | mPINC Hospital Survey | 1,380 | 1 | 30/60

Jeffrey M. Zirger,
Lead, Information Collection Review Office, Office of Public Health Ethics and Regulations, Office of Science, Centers for Disease Control and Prevention.

[FR Doc. 2026-00717 Filed 1-14-26; 8:45 am]

BILLING CODE 4163-18-P